FEDERAL ELECTION COMMISSION

11 CFR Part 110

[Notice 2002-17]

Contribution Limitations and Prohibitions

AGENCY: Federal Election Commission.

ACTION: Cancellation of public hearing.

SUMMARY: On August 22, 2002, the Federal Election Commission published proposed changes to its rules relating to contribution limitations and prohibitions under the Federal Election Campaign Act of 1971, as amended. 67 FR 54366 (August 22, 2002). The proposed rules implement provisions of the Bipartisan Campaign Reform Act of 2002. The Notice of Proposed Rulemaking stated that the Commission would hold a public hearing on the proposed rules on October 3, 2002, if the Commission received a sufficient number of requests to testify by September 13, 2002. Although the Commission received a small number of requests to testify, it has decided not to hold public hearings on the proposed rules. Therefore, the Commission is canceling the public hearing.

FOR FURTHER INFORMATION CONTACT: Ms. Mai Dinh, Acting Assistant General Counsel, 999 E Street, NW., Washington, DC 20463, (202) 694-1650 or (800) 424-9530.

Dated: October 1, 2002.
Karl J. Sandstrom,
Vice Chairman, Federal Election Commission.

[FR Doc. 02-25400 Filed 10-4-02; 8:45 am]

BILLING CODE 6715-01-P